DEPARTMENT OF HOMELAND SECURITY

Coast Guard

33 CFR Part 165

[COTP Guam 07-005]

RIN 1625-AA87

Security Zone; Tinian, Commonwealth of the Northern Mariana Islands

AGENCY: Coast Guard, DHS.

ACTION: Notice of proposed rulemaking.

SUMMARY: The Coast Guard proposes to change a permanent security zone in waters adjacent to the island of Tinian, Commonwealth of the Northern Mariana Islands (CNMI). Review of this established zone indicates that its scope is overly-broad and that it imposes an unnecessary and unsustainable enforcement burden on the Coast Guard. This proposed change is intended to narrow the zone's scope so it more accurately reflects current enforcement needs.

DATES: Comments and related material must reach the Coast Guard on or before September 17, 2007.

ADDRESSES: You may mail comments and related material to Commanding Officer, U.S. Coast Guard Sector Guam, PSC 455 Box 176, FPO, AP 968540-1056. Sector Guam maintains the public docket for this rulemaking. Comments and material received from the public, as well as documents indicated in this preamble as being available in the docket, are available for inspection and copying at Coast Guard Sector Guam between 7 a.m. and 3:30 p.m., Monday through Friday, except Federal holidays.

FOR FURTHER INFORMATION CONTACT: Lieutenant Commander John Winter, U.S. Coast Guard Sector Guam at (671) 355-4861.

SUPPLEMENTARY INFORMATION:

Request for Comments

We encourage you to participate in this rulemaking by submitting comments and related material. If you do so, please include your name and address, identify the docket number for this rulemaking (COTP Guam 07-005), indicate the specific section of this document to which each comment applies, and give the reason for each comment. Please submit all comments and related material in an unbound format, no larger than 8½ by 11 inches, suitable for copying. If you would like to know that your submission reached us, please enclose a stamped, self-addressed postcard or envelope. We will consider all comments and material received during the comment period. We may change this proposed rule in view of them.

Public Meeting

We do not now plan to hold a public meeting. But you may submit a request for a meeting by writing to Sector Guam at the address under ADDRESSES explaining why one would be beneficial. If we determine that one would aid this rulemaking, we would hold one at a time and place announced by separate notice in the Federal Register.

Background and Purpose

The security zones at Tinian codified in 33 CFR 165.1403 were first established on November 14, 1986 (51 FR 42220, November 24, 1986), as requested by the U.S. Navy in order to prevent injury or damage to persons and equipment incident to the mooring of the first Maritime Preposition Ships in the port. In addition to describing a larger security zone that is enforced when a Maritime Position Ship is moored at the site, the regulation, as currently written, establishes a permanent 50-yard security zone around Moorings A and B when no vessel is moored there. The zone is approximately 100 nautical miles from the nearest Coast Guard surveillance assets, a distance that hinders our ability to patrol it regularly.

A recent review of the 50-yard zone indicates that patrolling it is unnecessary except when the Navy needs to ensure availability of the mooring space, which is signaled by the anchoring of mooring balls. The purpose of this proposal is to change the smaller zone from one that is activated all the time to one that is activated only when necessary. The proposed change would both reduce a burden to more accurately reflect current enforcement needs and eliminate our need to travel 100 miles to patrol the zone when enforcement is unnecessary.

In addition, we propose changing the section heading of this regulation to reflect CNMI's proper name and the fact that the section describes two security zones. We also propose to make it easier to distinguish the two zones by describing them in separate paragraphs in 33 CFR 165.1403. Finally, we seek to clarify that while these regulations would be in effect at all times, the security zones would only be activated—and thus subject to enforcement—when necessary.

Discussion of Proposed Rule

In order to narrow the scope of the 50-yard security zone established in 33 CFR 165.1403, we propose to add the condition that mooring balls be anchored and on station as a condition for that smaller zone to be activated and thus subject to enforcement. The mooring balls would only be anchored and on station when it is necessary to enforce the zone.

Also, we propose to separate the two zone descriptions currently in paragraph (a) of § 165.1403. The existing description of the large zone would appear in paragraph (a)(1) with the only change being that the words “is in effect” would be replaced by “will be enforced.” The description of the smaller zone, reflecting the mooring-balls activation condition discussed above, would appear in paragraph (a)(2).

Finally, we propose to revise the section's title by pluralizing the word “Zone,” inserting “of the” after “Commonwealth,” and singularizing “Marianas.” The revised section heading would read: “Security Zones; Tinian, Commonwealth of the Northern Mariana Islands.”

Regulatory Evaluation

This proposed rule is not a “significant regulatory action” under section 3(f) of Executive Order 12866, Regulatory Planning and Review, and does not require an assessment of potential costs and benefits under section 6(a)(3) of that Order. The Office of Management and Budget has not reviewed it under that Order.

The Coast Guard expects the economic impact of this proposed rule to be so minimal that a full Regulatory Evaluation is unnecessary. This expectation is based on the nature of the proposed change (diminishing an established security zone's enforcement period), which is likely to further minimize the economic impact of an established rule.

Small Entities

Under the Regulatory Flexibility Act (5 U.S.C. 601-612), we have considered whether this proposed rule will have a significant economic impact on a substantial number of small entities. The term “small entities” comprises small businesses, not-for-profit organizations that are independently owned and operated and are not dominant in their fields, and governmental jurisdictions with populations of less than 50,000.

The Coast Guard certifies under 5 U.S.C. 605(b) that this proposed rule will not have a significant economic impact on a substantial number of small entities. Due to the nature of the proposed change (diminishing an established security zone's enforcement period), we anticipate that it will further reduce any economic impact of the established rule.

If you think that your business, organization, or governmental jurisdiction qualifies as a small entity and that this rule would have a significant economic impact on it, please submit a comment (see ADDRESSES) explaining why you think it qualifies and how and to what degree this rule would economically affect it.

Assistance for Small Entities

Under section 213(a) of the Small Business Regulatory Enforcement Fairness Act of 1996 (Pub. L. 104-121), we want to assist small entities in understanding this proposed rule so that they can better evaluate its effects on them and participate in the rulemaking. If the proposed rule would affect your small business, organization, or governmental jurisdiction and you have questions concerning its provisions or options for compliance, please contact Lieutenant Commander John Winter, U.S. Coast Guard Sector Guam, (671) 355-4861. The Coast Guard will not retaliate against small entities that question or complain about this rule or any policy or action of the Coast Guard.

Collection of Information

This proposed rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this proposed rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this proposed rule will not result in such expenditure, we do discuss the effects of this rule elsewhere in this preamble.

Taking of Private Property

This proposed rule will not affect a taking of private property or otherwise have taking implications under Executive Order 12630, Governmental Actions and Interference with Constitutionally Protected Property Rights.

Civil Justice Reform

This proposed rule meets applicable standards in sections 3(a) and 3(b)(2) of Executive Order 12988, Civil Justice Reform, to minimize litigation, eliminate ambiguity, and reduce burden.

Protection of Children

We have analyzed this proposed rule under Executive Order 13045, Protection of Children from Environmental Health Risks and Safety Risks. This proposed rule is not an economically significant rule and does not create an environmental risk to health or risk to safety that may disproportionately affect children.

Indian Tribal Governments

This proposed rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, we did not consider the use of voluntary consensus standards.

Environment

We have analyzed this proposed rule under Commandant Instruction M16475.lD, which guides the Coast Guard in complying with the National Environmental Policy Act of 1969 (NEPA) (42 U.S.C. 4321-4370f), and have made a preliminary determination that this action is not likely to have a significant effect on the human environment. Draft documentation supporting this preliminary determination is available in the docket where indicated under ADDRESSES. We seek any comments or information that may lead to the discovery of a significant environmental impact from this proposed rule.

List of Subjects in 33 CFR Part 165

Harbors, Marine safety, Navigation (water), Reports and recordkeeping requirements, Security measures, Waterways.

For the reasons set out in the preamble, the Coast Guard proposes to amend 33 CFR part 165 as follows:

PART 165—REGULATED NAVIGATION AREAS AND LIMITED ACCESS AREAS

1. The authority citation for part 165 continues to read as follows:

Authority: 33 U.S.C. 1226, 1231; 46 U.S.C. Chapter 701; 50 U.S.C. 191, 195; 33 CFR 1.05-1, 6.04-1, 6.04-6, and 160.5; Pub. L. 107-295, 116 Stat. 2064; Department of Homeland Security Delegation No. 0170.1.

2. In § 165.1403, revise the section heading and paragraph (a) to read as follows:

§ 165.1403 Security Zones; Tinian, Commonwealth of the Northern Mariana Islands.

(a) Location. The following areas are security zones:

(1) The waters of the Pacific Ocean off Tinian between 14°59′04.9″ N, 145°34′58.6″ E to 14°59′20.1″ N, 145°35′41.5″ E to 14°59′09.8″ N, 145°36′02.1″ E to 14°57′49.3″ N, 145°36′28.7″ E to 14°57′29.1″ N, 145°35′31.1″ E and back to 14°59′04.9″ N, 145°34′58.6″ E. This zone will be enforced when one, or more, of the Maritime Preposition Ships is in the zone or moored at Mooring A located at 14°58′57.0″ N and 145°35′40.8″ E or Mooring B located at 14°58′15.9″ N, 145°35′54.8″ E.

(2) Additionally, a 50-yard security zone in all directions around Moorings A and B will be enforced when no vessels are moored thereto but mooring balls are anchored and on station.

Note to paragraph (a): All positions of latitude and longitude are from International Spheroid, Astro Pier 1944 (Saipan) Datum (NOAA Chart 81071).

* * * * *

Dated: August 6, 2007.
William Marhoffer,
Captain, U.S. Coast Guard, Captain of the Port Guam.

[FR Doc. E7-16203 Filed 8-16-07; 8:45 am]

BILLING CODE 4910-15-P